DEPARTMENT OF LABOR

Occupational Safety and Health Administration

[Docket No. OSHA-2010-0033]

Baseline Safety and Health Practices; Office of Management and Budget's (OMB) Approval of Information Collection (Paperwork) Requirements

AGENCY: Occupational Safety and Health Administration (OSHA), Labor.

ACTION: Request for public comment.

SUMMARY: The Occupational Safety and Health Administration (OSHA) is soliciting public comments concerning the collection of information about the safety and health practices of private sector establishments in agriculture (with 10 or more workers) and non-agriculture industries, as well as public sector establishments in those states with OSHA-approved safety and health programs (State Plan states).

DATES: Comments must be submitted (postmarked, sent, or received) by October 12, 2010.

ADDRESSES: Electronically: You may submit comments and attachments electronically at http://www.regulations.gov, which is the Federal eRulemaking Portal. Follow the instructions online for submitting comments.

Facsimile: If your comments, including attachments, are not longer than 10 pages, you may fax them to the OSHA Docket Office at (202) 693-1648.

Mail, hand delivery, express mail, messenger, or courier service: When using this method, you must submit three copies of your comments and attachments to the OSHA Docket Office, Docket No. OSHA-2010-0033, U.S. Department of Labor, Occupational Safety and Health Administration, Room N-2625, 200 Constitution Avenue, NW., Washington, DC 20210. Deliveries (hand, express mail, messenger, and courier service) are accepted during the Department of Labor's and Docket Office's normal business hours, 8:15 a.m. to 4:45 p.m., e.t.

Instructions: All submissions must include the Agency name and OSHA docket number for the Information Collection Request (ICR) (OSHA-2010-0033). All comments, including any personal information you provide, are placed in the public docket without change, and may be made available online at http://www.regulations.gov. For further information on submitting comments see the “Public Participation” heading in the section of this notice titled “Supplementary Information.”

Docket: To read or download comments or other material in the docket, go to http://www.regulations.gov or the OSHA Docket Office at the address above. All documents in the docket (including this Federal Register notice) are listed in the http://www.regulations.gov index; however, some information (e.g., copyrighted material) is not publicly available to read or download through the Web site. All submissions, including copyrighted material, are available for inspection and copying at the OSHA Docket Office. You may contact Todd Owen or Theda Kenney at the address below to obtain a copy of the ICR.

FOR FURTHER INFORMATION CONTACT: Todd Owen or Theda Kenney, Directorate of Standards and Guidance, OSHA, U.S. Department of Labor, Room N-3609, 200 Constitution Avenue, NW., Washington, DC 20210; telephone (202) 693-2222.

SUPPLEMENTARY INFORMATION:

I. Background

The Department of Labor, as part of its continuing effort to reduce paperwork and respondent (i.e., employer) burden, conducts a preclearance consultation program to provide the public with an opportunity to comment on proposed and continuing information collection requirements in accordance with the Paperwork Reduction Act of 1995 (44 U.S.C. 3506(c)(2)(A)). This program ensures that information is in the desired format, reporting burden (time and costs) is minimal, collection instruments are clearly understood, and OSHA's estimate of the information collection burden is accurate. The Occupational Safety and Health Act of 1970 (the OSH Act) (29 U.S.C. 651 et seq.) authorizes information collection by employers as necessary or appropriate for enforcement of the OSH Act or for developing information regarding the causes and prevention of occupational injuries, illnesses, and accidents (29 U.S.C. 657). The OSH Act also requires that OSHA obtain such information with minimum burden upon employers, especially those operating small businesses, and to reduce to the maximum extent feasible unnecessary duplication of efforts in obtaining information (29 U.S.C. 657).

The Occupational Safety and Health Administration (OSHA) is undertaking a rulemaking effort directed toward requiring employers to establish injury and illness prevention programs to monitor and more effectively implement practices to mitigate workplace hazards, thereby reducing the incidence of employee injuries and illnesses. OSHA believes that widespread implementation of such programs will substantially improve overall workplace safety and health conditions.

To gain information needed to support this rulemaking effort, OSHA is proposing to conduct a statistical survey of private sector establishments in non-agricultural industries. The goal of the survey is to develop industry-specific, statistically accurate estimates of the current prevalence of a variety of baseline safety and health practices that may be elements of injury and illness prevention programs among establishments. OSHA also proposes to conduct case study interviews in two sectors: (1) establishments in the agriculture sector to assess the prevalence of safety and health practices among farms with more than 10 workers; and (2) interviews with government officials in State Plan states to assess safety and heath practices among agencies and departments operated by state and local governments in State Plan states.

In addition to the statistical survey (Baseline Safety and Health Practices) described above—which also includes “case studies” in two industry sectors that could not be adequately sampled by the survey methodology—the Agency is proposing to conduct as many as 50 site visits to employers. These employers could potentially be affected by a new standard that could require a management program or system to address workplace hazards. Site visits would collect information on current employer practices (much like the information collected in the “case studies” and the survey questionnaire itself), but also solicit information from employers on how they would comply with such a regulation and what time or costs would be required to do so. Site visit reports capture much richer detail about employer conditions than the survey instrument, reflecting variations of employer size and industry sector. These site visits would be conducted either by OSHA personnel or a contractor under the agency's direction.

II. Special Issues for Comment

OSHA has a particular interest in comments on the following issues:

• Whether the proposed information collection requirements are necessary for the proper performance of the Agency's functions, including whether the information is useful;

• The accuracy of OSHA's estimate of the burden (time and costs) of the information collection requirements, including the validity of the methodology and assumptions used;

• The quality, utility, and clarity of the information collected; and

• Ways to minimize the burden on employers who must comply; for example, by using automated or other technological information collection and transmission techniques.

III. Proposed Actions

OSHA is requesting OMB approval of the collection of information (paperwork) requirements contained in the Baseline Safety and Health Practices Survey. The hour burden of the information collection effort for the study is 4,177 hours. The burden hour estimates are based on tests of the length of time each type of respondent is likely to need to respond to the survey questions. The total cost to respondents is $213,153. This is a one-time data collection effort.

OSHA will summarize the comments submitted in response to this notice, and will include this summary in its request to OMB to approve the information collection requirements in the Baseline Safety and Health Practices Survey.

Type of Review: New Collection.

Title: Baseline Safety and Health Practices.

OMB Number: 1218-0NEW.

Affected Public: Private businesses; state and local government entities in State plan states.

Number of Respondents: Statistical Survey—14,202; Case Studies—85 (agriculture and government sectors combined); Site visits—50.

Frequency: Nonrecurring.

Estimated Time Per Response: Statistical Survey—30 minutes (0.5 hour); Case Studies—30 minutes (0.5 hour) for agricultural establishments, 60 minutes (1 hour) for state and local governments; Site visits—2 hours.

Total Burden Hours: Statistical Survey—4,022; Case Studies—55; Site Visits—100.

Estimated Cost (Operation and Maintenance): $0.

IV. Public Participation—Submission of Comments on this Notice and Internet Access to Comments and Submissions

You may submit comments in response to this document as follows: (1) Electronically at http://www.regulations.gov, which is the Federal e-Rulemaking Portal; (2) by facsimile (fax); or (3) by hard copy. All comments, attachments, and other materials must identify the Agency name and the OSHA docket number for the ICR (Docket No. OSHA-2010-0033). You may supplement electronic submissions by uploading document files electronically. If you wish to mail additional materials in reference to an electronic or facsimile submission, you must submit them to the OSHA Docket Office (see the section of this notice titled ADDRESSES). The additional materials must clearly identify your electronic comments by your name, date, and the docket number so the Agency can attach them to your comments.

Because of security procedures, the use of regular mail may cause a significant delay in the receipt of comments. For information about security procedures concerning the delivery of materials by hand, express delivery, messenger, or courier service, please contact the OSHA Docket Office at (202) 693-2350, (TTY (877) 889-5627).

Comments and submissions are posted without change at http://www.regulations.gov. Therefore, OSHA cautions commenters about submitting personal information such as social security numbers and date of birth. Although all submissions are listed in the http://www.regulations.gov index, some information (e.g. copyrighted material) is not publically available to read or download through this Web site. All submissions, including copyrighted material, are available for inspection and copying at the OSHA Docket Office. Information on using the http://www.regulations.gov Web site to submit comments and access the docket is available through the Web site's “User Tips” link. Contact the OSHA Docket Office for information about materials not available through the Web site, and for assistance in using the Internet to locate docket submissions.

V. Authority and Signature

David Michaels, PhD, MPH, Assistant Secretary of Labor for Occupational Safety and Health, directed the preparation of this notice. The authority for this notice is the Paperwork Reduction Act of 1995 (44 U.S.C. 3506 et seq.) and Secretary of Labor's Order No. 5-2007 (72 FR 31160).

Signed at Washington, DC, on this 6th day of August 2010.
David Michaels,
Assistant Secretary of Labor for Occupational Safety and Health.

[FR Doc. 2010-19869 Filed 8-11-10; 8:45 am]

BILLING CODE 4510-26-P